DEPARTMENT OF THE TREASURY

Office of the Comptroller of the Currency

12 CFR Part 5

[Docket ID OCC-2023-0017]

RIN 1557-AF24

Business Combinations Under the Bank Merger Act; Extension of Comment Period

AGENCY: Office of the Comptroller of the Currency (OCC), Treasury.

ACTION: Notice of proposed rulemaking (NPR); Extension of comment period.

SUMMARY: This action extends the comment period for the NPR titled “Business Combinations under the Bank Merger Act” that was published on February 14, 2024. In that document, the OCC proposed to increase the transparency of the standards that apply to the agency's review of business combinations involving national banks and Federal savings associations. The OCC is extending the comment period closing date to allow interested persons additional time to analyze the proposal and prepare their comments.

DATES: The comment period for the NPR published on February 14, 2024, (89 FR 10010) is extended. Comments must be received on or before June 15, 2024.

ADDRESSES: Commenters are encouraged to submit comments through the Federal eRulemaking Portal. Please use the title “Business Combinations under the Bank Merger Act” to facilitate the organization and distribution of the comments. You may submit comments by any of the following methods:

• Federal eRulemaking Portal—“Regulations.gov”:

Go to https://regulations.gov/. Enter “Docket ID OCC-2023-0017” in the Search Box and click “Search.” Public comments can be submitted via the “Comment” box below the displayed document information or by clicking on the document title and then clicking the “Comment” box on the top-left side of the screen. For help with submitting effective comments, please click on “Commenter's Checklist.” For assistance with the Regulations.gov site, please call 1-866-498-2945 (toll free) Monday-Friday, 9 a.m.-5 p.m. ET, or email regulationshelpdesk@gsa.gov.

• Mail: Chief Counsel's Office, Attention: Comment Processing, Office of the Comptroller of the Currency, 400 7th Street SW, Suite 3E-218, Washington, DC 20219.

• Hand Delivery/Courier: 400 7th Street SW, Suite 3E-218, Washington, DC 20219.

Instructions: You must include “OCC” as the agency name and “Docket ID OCC-2023-0017” in your comment. In general, the OCC will enter all comments received into the docket and publish the comments on the Regulations.gov website without change, including any business or personal information provided such as name and address information, email addresses, or phone numbers. Comments received, including attachments and other supporting materials, are part of the public record and subject to public disclosure. Do not include any information in your comment or supporting materials that you consider confidential or inappropriate for public disclosure.

You may review comments and other related materials that pertain to this action by any of the following methods:

• Viewing Comments Electronically—Regulations.gov:

Go to https://regulations.gov/. Enter “Docket ID OCC-2023-0017” in the Search box and click “Search”. Click on the “Dockets” tab and then the document's title. After clicking the document's title, click the “Browse All Comments” tab. Comments can be viewed and filtered by clicking on the “Sort By” drop-down on the right side of the screen or the “Refine Comments Results” options on the left side of the screen. Supporting materials can be viewed by clicking on the “Browse Documents” tab. Click on the “Sort By” drop-down on the right side of the screen or the “Refine Results” options on the left side of the screen checking the “Supporting & Related Material” checkbox. For assistance with the Regulations.gov site, please call 1-866-498-2945 (toll free) Monday-Friday,9 a.m.-5 p.m. ET, or email regulationshelpdesk@gsa.gov.

The docket may be viewed after the close of the comment period in the same manner as during the comment period.

FOR FURTHER INFORMATION CONTACT: Valerie Song, Acting Associate Chief Counsel, Christopher Crawford, Special Counsel, Elizabeth Small, Counsel, Chief Counsel's Office 202-649-5490; or Yoo Jin Na, Director for Licensing Activities 202-649-6260, Office of the Comptroller of the Currency, 400 7th Street SW, Washington, DC 20219. If you are deaf, hard of hearing, or have a speech disability, please dial 7-1-1 to access telecommunications relay services.

SUPPLEMENTARY INFORMATION: The NPR titled “Business Combinations under the Bank Merger Act” was published in the Federal Register on February 14, 2024, (89 FR 10010). In that NPR, the OCC proposed to increase the transparency of the standards that apply to the agency's review of business combinations involving national banks and Federal savings associations. In particular, the proposed rule would amend the procedures and would add, as an appendix, a policy statement that summarizes the principles the OCC uses when it reviews proposed bank merger transactions under the Bank Merger Act. The NPR provided for a 60-day comment period, which would have closed on April 15, 2024. The OCC has received a request to extend the comment period. The OCC has determined that an extension of the comment period to June 15, 2024, is appropriate. An extension of the comment period will provide additional opportunity for interested persons to consider the proposal and prepare comments. Therefore, the OCC is extending the end of the comment period for the proposal from April 15, 2024, to June 15, 2024.

Michael J. Hsu,
Acting Comptroller of the Currency.

[FR Doc. 2024-07876 Filed 4-12-24; 8:45 am]

BILLING CODE 4810-33-P